NUCLEAR REGULATORY COMMISSION

[Docket No. 70-1151; NRC-2021-0158]

Westinghouse Electric Company, LLC; Columbia Fuel Fabrication Facility; and US Ecology, Inc.; Idaho Resource Conservation and Recovery Act Subtitle C Hazardous Disposal Facility Located Near Grand View, Idaho

AGENCY: Nuclear Regulatory Commission.

ACTION: License amendment and exemption; issuance.

SUMMARY: The U.S. Nuclear Regulatory Commission (NRC) is issuing an exemption and associated license amendment related to a request from Westinghouse Electric Company, LLC (WEC) from NRC regulations with respect to a request for alternate disposal and exemptions for specified low-activity radioactive waste from the Columbia Fuel Fabrication Facility (CFFF) in Hopkins, South Carolina for waste containing byproduct material and special nuclear material (SNM) under License Number SNM-1107. Additionally, the NRC is taking the related action of approving exemptions to US Ecology, Inc. (USEI) from the applicable licensing requirements to allow USEI to receive and dispose of the material from CFFF without an NRC license. The USEI disposal facility, located near Grand View, Idaho, is a Subtitle C Resource Conservation and Recovery Act (RCRA) hazardous waste disposal facility permitted by the State of Idaho to receive low-level radioactive waste and is not licensed by the NRC. Approval of the alternate disposal request from WEC and the exemptions and license amendment requested by WEC and associated exemptions for USEI would allow WEC to transfer the specific waste from CFFF for disposal at USEI.

DATES: This exemption is effective on October 12, 2021.

ADDRESSES: Please refer to Docket ID NRC-2021-0158 when contacting the NRC about the availability of information regarding this document. You may obtain publicly available information related to this document using any of the following methods:

• Federal Rulemaking website: Go to https://www.regulations.gov and search for Docket ID NRC-2021-0158. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The Request for Alternate Disposal Approval and Exemption for Specific CFFF Waste (License No. SNM-1197, Docket No. 70-1151) dated June 1, 2021 is available in ADAMS under Accession No. ML21153A001. The staff's Safety Evaluation Report dated October 4, 2021 is available in ADAMS under Package Accession No. ML21202A110.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: David Tiktinsky, Office of Nuclear Material Safety and Safeguards, U.S. Nuclear Regulatory Commission, Washington, DC 20555-0001; telephone: 301-415-8740, email: David.Tiktinsky@nrc.gov.

SUPPLEMENTARY INFORMATION:

I. Background

WEC is the holder of a Special Nuclear Materials License SNM-1107 under part 70 of title 10 of the Code of Federal Regulations (10 CFR), “Domestic Licensing of Special Nuclear Material,” which authorizes the fabrication of nuclear fuel at the CFFF. The USEI disposal facility near Grand View, Idaho is a Subtitle C RCRA hazardous waste disposal facility permitted by the State of Idaho to receive radioactive waste.

II. Request/Action

The proposed action would approve the alternate disposal request and provide exemptions from 10 CFR 70.3 and 10 CFR 30.3 and an associated WEC license amendment, allowing WEC to transfer and USEI to receive and dispose of 133,000 ft³ of calcium fluoride (CaF2) sludge containing byproduct and special nuclear material (low enriched uranium {<5wt% U-235}). The CaF2 to be disposed of is generated from CFFF site operations and previously stored in onsite lagoons. The lagoons are periodically dredged and the resulting CaF2 sludge is placed in piles on the site for drying prior to disposal.

As proposed, this waste would be transported from CFFF in South Carolina to the USEI facility near Grand View, Idaho. The USEI facility is a RCRA Subtitle C hazardous waste disposal facility permitted by the State of Idaho.

III. Discussion

Pursuant to 10 CFR 70.17 and 10 CFR 30.11, the Commission may, upon application of any interested person or upon its own initiative, grant such exemptions from the requirements of 10 CFR part 70 and part 30 respectively, as it determines are authorized by law and will not endanger life or property or the common defense and security and are otherwise in the public interest.

The Exemption Is Authorized by Law

The proposal provides that the material described in this notice would be transported and disposed of in compliance with Federal, State, and local regulations. Specifically, the material will be removed from the site per WEC's proposed disposal procedures and NRC license and State and local regulations. It will be shipped in accordance with U.S. Department of Transportation regulations to USEI. USEI, a RCRA Subtitle C disposal site, must obtain approval from the State of Idaho to receive and dispose of the material in accordance with its RCRA Subtitle C regulations in addition to the exemptions evaluated here. Therefore, such disposal is not otherwise contrary to NRC requirements, and is otherwise authorized by law.

The Exemption Will Not Endanger Life, Property and Is Consistent With the Common Defense and Security

NRC staff reviewed the information provided by WEC to support their 10 CFR 20.2002 alternate disposal request and the specific exemptions from 10 CFR 30.3 and 10 CFR 70.3 and associated license amendment in order to dispose of the described CaF2 sludge associated with cleanup activities at CFFF. The NRC staff concluded that the requested disposal of 133,000 ft³ of CaF2 sludge is acceptable under 10 CFR 20.2002. Details provided in this request, in combination with appropriate references to past approvals of similar procedures and material from the same site, provide an adequate description of the waste and the proposed manner and conditions of waste disposal. Lastly, because of the presence of SNM, the NRC evaluated potential criticality in its safety evaluation report and found no concerns. Therefore, the NRC concludes that issuance of the exemption will not endanger life, property, and is consistent with the common defense and security.

The Exemption Is in the Public Interest

Issuance of the exemptions to WEC and USEI is in the public interest because it provides for the efficient and safe disposal for the subject waste material, facilitates the decommissioning of the CFFF site consistent with the consent agreement between CFFF and the South Carolina Department of Health and Environmental Control, and conserves low-level radioactive waste disposal capacity at licensed low-level radioactive disposal sites while ensuring that the material being considered is disposed of safely in a regulated facility. Therefore, based upon the evaluation above, exemptions are appropriate pursuant to 10 CFR 30.11 and 10 CFR 70.17.

IV. Environmental Considerations

As required by 10 CFR 51.21, the NRC performed an environmental assessment (EA) that analyzes the environmental impacts of the proposed exemption in accordance with the National Environmental Policy Act of 1969 and NRC implementing regulations in 10 CFR part 51. Based on the conclusions of the EA, the NRC staff has determined that there is no need to prepare an environmental impact statement for the proposed exemption and has issued a finding of no significant impact (FONSI). The EA and FONSI were published in the Federal Register on October 12, 2021 (86 FR 56729).

V. Conclusions

Accordingly, the Commission has determined that, pursuant to 10 CFR 70.17 and 10 CFR 30.11, exemptions for WEC and USEI are authorized by law, will not present an undue risk to the public health and safety, are consistent with the common defense and security, and are in the public interest. Therefore, the Commission hereby grants WEC and USEI exemptions from 10 CFR 70.3 and 10 CFR 30.3 to allow WEC to transfer 133,000 ft³ of CaF2 sludge from the WEC CFFF for disposal at the USEI disposal facility located near Grand View, Idaho, and issues WEC a conforming license amendment.

Dated: October 13, 2021.
For the Nuclear Regulatory Commission.
Jacob I. Zimmerman,
Chief, Fuel Facility Licensing Branch, Division of Fuel Management, Office of Nuclear Material Safety and Safeguards.

[FR Doc. 2021-22645 Filed 10-15-21; 8:45 am]

BILLING CODE 7590-01-P